TENNESSEE VALLEY AUTHORITY

[Meeting No. 16-02]

Sunshine Act Meeting Notice

The TVA Board of Directors will hold a public meeting on May 5, 2016, at Paris Landing State Park Conference Center, Room C, 400 Lodge Road, Buchanan, Tennessee. The public may comment on any agenda item or subject at a public listening session which begins at 9 a.m. (CT). Following the end of the public listening session, the meeting will be called to order to consider the agenda items listed below. On-site registration will be available until 15 minutes before the public listening session begins at 9 a.m. (CT). Preregistered speakers will address the Board first. TVA management will answer questions from the news media following the Board meeting.

Status: Open.

Agenda

Chair's Welcome.

Old Business

Approval of minutes of the February 11, 2016, Board Meeting.

New Business

1. Report from President and CEO

2. Committee Rosters

3. Report of the Nuclear Oversight Committee

4. Report of the External Relations Committee

A. Bellefonte Nuclear Plant Site

B. Floating House Policy

5. Report of the Finance, Rates, and Portfolio Committee

A. Fleet-Wide Non-Nuclear Maintenance and Modifications Contract

B. Delegated Authority to Execute Large Generator Interconnection Agreements

6. Report of the People and Performance Committee

A. Long-Term Service Agreement with General Electric International

7. Report of the Audit, Risk, and Regulation Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 28, 2016.
Sherry A. Quirk,
General Counsel.

[FR Doc. 2016-10405 Filed 4-29-16; 11:15 am]

BILLING CODE 8120-08-P